DEPARTMENT OF COMMERCE

International Trade Administration

[A-570-904]

Certain Activated Carbon From the People's Republic of China; 2013-2014; Partial Rescission of the Seventh Antidumping Duty Administrative Review

AGENCY: Enforcement and Compliance, International Trade Administration, Department of Commerce.

SUMMARY: On May 29, 2014, the Department of Commerce (“Department”) published a notice of initiation of an administrative review of the antidumping duty order on certain activated carbon from the People's Republic of China (“PRC”) based on multiple timely requests for an administrative review. The review covers 190 companies. Based on a withdrawal of the requests for review of certain companies from Calgon Carbon Corporation and Cabot Norit Americas Inc. (“Petitioners”), we are now rescinding this administrative review with respect to 165 companies.

DATES: Effective Date: September 16, 2014.

FOR FURTHER INFORMATION CONTACT: Emeka Chukwudebe, AD/CVD Operations, Office V, Enforcement and Compliance, International Trade Administration, U.S. Department of Commerce, 14th Street and Constitution Avenue NW., Washington, DC 20230; telephone (202) 482-0219.

Background

In April 2013, the Department received multiple timely requests to conduct an administrative review of the antidumping duty order on certain activated carbon from the PRC (“the Order”).¹ Based upon these requests, on May 29, 2014, the Department published a notice of initiation of an administrative review of the Order covering the period April 1, 2013, to March 31, 2014.² The Department initiated the administrative review with respect to 190 companies.³ On August 27, 2014, Petitioners withdrew their request for an administrative review on 166 companies.⁴ Of the 166 companies, Petitioners also withdrew their request for review of Calgon Carbon (Tianjin) Co., Ltd. (“Calgon”). However, because Calgon also requested an administrative review of itself in the current segment, it remains part of this review.⁵

¹ See Notice of Antidumping Duty Order: Certain Activated Carbon From the People's Republic of China, 72 FR 20988 (April 27, 2007) (“Order”).

² See Initiation of Antidumping and Countervailing Duty Administrative Reviews, 79 FR 30809, 30816 (May 29, 2014).

³ Id.

⁴ See Letter to the Department from Petitioners, Re: 7th Administrative Review of Certain Activated Carbon from the People's Republic of China: Petitioners' Withdrawal of Certain Requests for Administrative Review, dated August 27, 2014.

⁵ See Letter from Calgon, dated April 25, 2014.

Partial Rescission

Pursuant to 19 CFR 351.213(d)(1), the Secretary will rescind an administrative review, in whole or in part, if a party who requested the review withdraws the request within 90 days of the date of publication of notice of initiation of the requested review. Petitioners withdrew their request for an administrative review on the 165 companies listed in the Appendix.⁶ Petitioners were the only party to request a review of these companies. Accordingly, we are rescinding this review, in part, with respect to these entities, in accordance with 19 CFR 351.213(d)(1).

⁶ As stated in Change in Practice in NME Reviews, the Department will no longer consider the non-market economy (“NME”) entity as an exporter conditionally subject to administrative reviews. See Antidumping Proceedings: Announcement of Change in Department Practice for Respondent Selection in Antidumping Duty Proceedings and Conditional Review of the Nonmarket Economy Entity in NME Antidumping Duty Proceedings, 78 FR 213 (November 4, 2013) (“Change in Practice in NME Reviews”).

Assessment

The Department will instruct U.S. Customs and Border Protection (“CBP”) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as the only reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751 and 777(i)(l) of the Tariff Act of 1930, as amended, and 19 CFR 351.213(d)(4).

Dated: September 10, 2014.
Christian Marsh,
Deputy Assistant Secretary for Antidumping and Countervailing Duty Operations.

APPENDIX

1 AmeriAsia Advanced Activated Carbon Products Co., Ltd.

2 Anhui Handfull International Trading (Group) Co., Ltd.

3 Anhui Hengyuan Trade Co. Ltd.

4 Anyang Sino-Shan International Trading Co., Ltd.

5 Baoding Activated Carbon Factory

6 Beijing Broad Activated Carbon Co., Ltd.

7 Beijing Haijian Jiechang Environmental Protection Chemicals

8 Beijing Hibridge Trading Co., Ltd.

9 Bengbu Jiutong Trade Co. Ltd.

10 Changji Hongke Activated Carbon Co., Ltd.

11 Chengde Jiayu Activated Carbon Factory

12 China National Building Materials and Equipment Import and Export Corp.

13 China National Nuclear General Company Ningxia Activated Carbon Factory

14 China Nuclear Ningxia Activated Carbon Plant

15 Da Neng Zheng Da Activated Carbon Co., Ltd.

16 Datong Carbon Corporation

17 Datong Changtai Activated Carbon Co., Ltd.

18 Datong City Zuoyun County Activated Carbon Co., Ltd.

19 Datong Fenghua Activated Carbon

20 Datong Forward Activated Carbon Co., Ltd.

21 Datong Fuping Activated Carbon Co. Ltd.

22 Datong Guanghua Activated Co., Ltd.

23 Datong Hongtai Activated Carbon Co., Ltd.

24 Datong Huanqing Activated Carbon Co., Ltd.

25 Datong Huaxin Activated Carbon

26 Datong Huibao Activated Carbon Co., Ltd.

27 Datong Huibao Active Carbon Co., Ltd.

28 Datong Huiyuan Cooperative Activated Carbon Plant

29 Datong Kaneng Carbon Co. Ltd.

30 Datong Locomotive Coal & Chemicals Co., Ltd.

31 Datong Tianzhao Activated Carbon Co., Ltd.

32 DaTong Tri-Star & Power Carbon Plant

33 Datong Weidu Activated Carbon Co., Ltd.

34 Datong Xuanyang Activated Carbon Co., Ltd.

35 Datong Zuoyun Biyun Activated Carbon Co., Ltd.

36 Datong Zuoyun Fu Ping Activated Carbon Co., Ltd.

37 Dezhou Jiayu Activated Carbon Factory

38 Dongguan Baofu Activated Carbon

39 Dongguan SYS Hitek Co., Ltd.

40 Dushanzi Chemical Factory

41 Fu Yuan Activated Carbon Co., Ltd.

42 Fujian Jianyang Carbon Plant

43 Fujian Nanping Yuanli Activated Carbon Co., Ltd.

44 Fujian Yuanli Active Carbon Co., Ltd.

45 Fuzhou Taking Chemical

46 Fuzhou Yihrian Carbon

47 Great Bright Industrial

48 Hangzhou Hengxing Activated Carbon

49 Hangzhou Hengxing Activated Carbon Co., Ltd.

50 Hangzhou Linan Tianbo Material (HSLATB)

51 Hangzhou Nature Technology

52 Hebei Foreign Trade and Advertising Corporation

53 Hebei Shenglun Import & Export Group Company

54 Hegongye Ninxia Activated Carbon Factory

55 Heilongjiang Provincial Hechang Import & Export Co., Ltd.

56 Hongke Activated Carbon Co., Ltd.

57 Huaibei Environment Protection Material Plant

58 Huairen Huanyu Purification Material Co., Ltd.

59 Huairen Jinbei Chemical Co., Ltd.

60 Huaiyushan Activated Carbon Group

61 Huatai Activated Carbon

62 Huzhou Zhonglin Activated Carbon

63 Inner Mongolia Taixi Coal Chemical Industry Limited Company

64 Itigi Corp. Ltd.

65 J&D Activated Carbon Filter Co. Ltd.

66 Jiangle County Xinhua Activated Carbon Co., Ltd.

67 Jiangsu Taixing Yixin Activated Carbon Technology Co., Ltd.

68 Jiangxi Hanson Import Export Co.

69 Jiangxi Huaiyushan Activated Carbon

70 Jiangxi Huaiyushan Activated Carbon Group Co.

71 Jiangxi Huaiyushan Suntar Active Carbon Co., Ltd.

72 Jiangxi Jinma Carbon

73 Jianou Zhixing Activated Carbon

74 Jiaocheng Xinxin Purification Material Co., Ltd.

75 Jilin Province Bright Future Industry and Commerce Co., Ltd.

76 Jing Mao (Dongguan) Activated Carbon Co., Ltd.

77 Kaihua Xingda Chemical Co., Ltd.

78 Kemflo (Nanjing) Environmental Tech

79 Keyun Shipping (Tianjin) Agency Co., Ltd.

80 Kunshan Actview Carbon Technology Co., Ltd.

81 Langfang Winfield Filtration Co.

82 Link Shipping Limited

83 Longyan Wanan Activated Carbon

84 Mindong Lianyi Group

85 Nanjing Mulinsen Charcoal

86 Nantong Ameriasia Advanced Activated Carbon Product Co., Ltd.

87 Ningxia Baota Activated Carbon Co., Ltd.

88 Ningxia Baota Active Carbon Plant

89 Ningxia Blue-White-Black Activated Carbon (BWB)

90 Ningxia Fengyuan Activated Carbon Co., Ltd.

91 Ningxia Guanghua Chemical Activated Carbon Co., Ltd.

92 Ningxia Haoqing Activated Carbon Co., Ltd.

93 Ningxia Henghui Activated Carbon

94 Ningxia Honghua Carbon Industrial Corporation

95 Ningxia Huinong Xingsheng Activated Carbon Co., Ltd.

96 Ningxia Jirui Activated Carbon

97 Ningxia Lingzhou Foreign Trade Co., Ltd.

98 Ningxia Luyuangheng Activated Carbon Co., Ltd.

99 Ningxia Pingluo County Yaofu Activated Carbon Plant

100 Ningxia Pingluo Xuanzhong Activated Carbon Co., Ltd.

101 Ningxia Pingluo Yaofu Activated Carbon Factory

102 Ningxia Taixi Activated Carbon

103 Ningxia Tianfu Activated Carbon Co., Ltd.

104 Ningxia Weining Active Carbon Co., Ltd.

105 Ningxia Xingsheng Coal and Active Carbon Co., Ltd.

106 Ningxia Xingsheng Coke & Activated Carbon Co., Ltd.

107 Ningxia Yinchuan Lanqiya Activated Carbon Co., Ltd.

108 Ningxia Yirong Alloy Iron Co., Ltd.

109 Ningxia Zhengyuan Activated

110 Ninxia Tongfu Coking Co., Ltd.

111 Nuclear Ningxia Activated Carbon Co., Ltd.

112 OEC Logistic Qingdao Co., Ltd.

113 Panshan Import and Export Corporation

114 Pingluo Xuanzhong Activated Carbon Co., Ltd.

115 Pingluo Yu Yang Activated Carbon Co., Ltd.

116 Shanghai Activated Carbon Co., Ltd.

117 Shanghai Coking and Chemical Corporation

118 Shanghai Goldenbridge International

119 Shanghai Jiayu International Trading (Dezhou Jiayu and Chengde Jiayu)

120 Shanghai Jinhu Activated Carbon (Xingan Shenxin and Jiangle Xinhua)

121 Shanghai Light Industry and Textile Import & Export Co., Ltd.

122 Shanghai Mebao Activated Carbon

123 Shanghai Xingchang Activated Carbon

124 Shanxi Blue Sky Purification Material Co., Ltd.

125 Shanxi Carbon Industry Co., Ltd.

126 Shanxi Dapu International Trade Co., Ltd.

127 Shanxi Newtime Co., Ltd.

128 Shanxi Qixian Foreign Trade Corporation

129 Shanxi Qixian Hongkai Active Carbon Goods

130 Shanxi Supply and Marketing Cooperative

131 Shanxi Tianli Ruihai Enterprise Co.

132 Shanxi Xiaoyi Huanyu Chemicals Co., Ltd.

133 Shanxi Xinhua Activated Carbon Co., Ltd.

134 Shanxi Xinhua Chemical Co., Ltd. (formerly Shanxi Xinhua Chemical Factory)

135 Shanxi Xinhua Protective Equipment

136 Shanxi Xinshidai Import Export Co., Ltd.

137 Shanxi Xuanzhong Chemical Industry Co., Ltd.

138 Shanxi Zuoyun Yunpeng Coal Chemistry

139 Shenzhen Sihaiweilong Technology Co.

140 Sincere Carbon Industrial Co. Ltd.

141 Taining Jinhu Carbon

142 Taiyuan Hengxinda Trade Co., Ltd.

143 Tianchang (Tianjin) Activated Carbon

144 Tianjin Century Promote International Trade Co., Ltd.

145 Tonghua Bright Future Activated Carbon Plant

146 Tonghua Xinpeng Activated Carbon Factory

147 Triple Eagle Container Line

148 Uniclear New-Material Co., Ltd.

149 United Manufacturing International (Beijing) Ltd.

150 Valqua Seal Products (Shanghai) Co.

151 VitaPac (HK) Industrial Ltd.

152 Wellink Chemical Industry

153 Xi Li Activated Carbon Co., Ltd.

154 Xiamen All Carbon Corporation

155 Xi'an Shuntong International Trade & Industrials Co., Ltd.

156 Xingan County Shenxin Activated Carbon Factory

157 Xinhua Chemical Company Ltd.

158 Xuanzhong Chemical Industry

159 Yangyuan Hengchang Active Carbon

160 Yicheng Logistics

161 Yinchuan Lanqiya Activated Carbon Co., Ltd.

162 Zhejiang Quizhou Zhongsen Carbon

163 Zhejiang Yun He Tang Co., Ltd.

164 Zhuxi Activated Carbon

165 Zuoyun Bright Future Activated Carbon Plant

[FR Doc. 2014-22078 Filed 9-15-14; 8:45 am]

BILLING CODE 3510-DS-P